NATIONAL AERONAUTICS AND SPACE ADMINISTRATION

[Notice 01-008]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: January 22, 2001.

FOR FURTHER INFORMATION CONTACT: John Kusmiss, Patent Counsel, NASA Management Office-JPL, 4800 Oak Grove Drive, Mail Stop 180-801, Pasadena, Ca 91109; Tel. (818) 354-7770.

NASA Case No. NPO-19442-2: Composite Material Switches;

NASA Case No. NPO-20837-1: Evolutionary Technique for Automated Synthesis of Electronic Circuits;

NASA Case No. DRC-098-096: Helicopter Tail Boom with Venting for Alleviation and Control of Tail Aerodynamic Boom Loads and Methods Thereof;

NASA Case No. DRC-099-016: Wind Advisory System.

Dated: January 11, 2001.
Edward A. Frankle,
General Counsel.

[FR Doc. 01-1768 Filed 1-19-01; 8:45 am]

BILLING CODE 7510-01-U